SURFACE TRANSPORTATION BOARD

[Docket No. EP 730 (Sub-No. 1)]

Revisions to Arbitration Procedures

By decision served on September 30, 2016, as corrected on October 11, 2016, the Board adopted rules to modify its arbitration procedures so that its regulations, set forth at 49 CFR 1108 and 1115.8, conform to the requirements of the Surface Transportation Reauthorization Act of 2015, Public Law 114-110 (2015). Under Section 13 of that Act (codified at 49 U.S.C. 11708), the Board must “promulgate regulations to establish a voluntary and binding arbitration process to resolve rail rate and practice complaints” that are subject to the Board's jurisdiction. Section 11708(f) provides that, unless parties otherwise agree, an arbitrator or panel of arbitrators shall be selected from a roster maintained by the Board. Accordingly, the Board's rules establish a process for creating and maintaining a roster of arbitrators. See Revisions to Arbitration Procedures, EP 730, slip op. at 3-4 (STB served Oct. 11, 2016).

To establish the initial roster of arbitrators, the Board now seeks applications from all interested persons who wish to be included on the roster. Each applicant should describe his or her experience with rail transportation and economic regulation, as well as professional or business experience, including agriculture, in the private sector. Further, each applicant should describe his or her training in dispute resolution and/or experience in arbitration or other forms of dispute resolution, including the number of years of experience. Lastly, the applicant should provide his or her contact information and fees.

Applications should be submitted by January 17, 2017.¹ The Board will assess each applicant's qualifications to determine which individuals can ably serve as arbitrators based on the criteria established under 49 CFR 1108.6(b). The Board will then establish the initial roster of arbitrators by no-objection vote. The Board's roster will include a brief biographical sketch of each arbitrator, including information such as background, area(s) of expertise, arbitration experience, and geographical location, as well as contact information and fees, based on the information supplied by the arbitrator. The roster will be published on the Board's Web site, pursuant to 49 CFR 1108.6(b). The roster will be updated every year and may be modified by the Board at any time through a no-objection vote.

¹ Persons who have informally indicated an interest in being included on the arbitrator roster (e.g., correspondence to Board members) should submit an application pursuant to this decision.

It is ordered:

1. Applications to be included on the Board's roster of arbitrators are due by January 17, 2017.

2. This decision is effective on the day of service.

By the Board, Rachel D. Campbell, Director, Office of Proceedings.
Raina S. Contee,
Clearance Clerk.

[FR Doc. 2016-30249 Filed 12-15-16; 8:45 am]

BILLING CODE 4915-01-P